DEPARTMENT OF THE INTERIOR

Bureau of Land Management

[BLM_AK_FRN_MO4500170694; AA-26417]

Public Land Order No. 7925; Extension of a Withdrawal Created by Executive Order, Modified by Public Land Order No. 6458; Sitka Magnetic Observatory Site; Alaska

AGENCY: Bureau of Land Management, Interior.

ACTION: Public Land Order.

SUMMARY: This Public Land Order (PLO) extends the duration of the withdrawal created by Executive Order, as modified by PLO No. 6458 and extended by PLO No. 7581, for an additional 20-year term. The Executive Order as modified and extended withdrew 117.13 acres of public land from all forms of appropriation under the public land laws, including the mining laws, but not from the mineral leasing laws, for the Sitka Magnetic Observatory site, and reserved the site for use by the United States Geological Survey as a magnetic and seismological observatory in Sitka, Alaska.

DATES: This PLO takes effect on September 6, 2023.

FOR FURTHER INFORMATION CONTACT: Chelsea Kreiner, BLM Alaska State Office, 222 West Seventh Avenue, Mailstop 13, Anchorage, AK 99513-7504, 907-271-4205, or ckreiner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires this extension for continued use of the lands as a magnetic and seismological observatory.

Order

By virtue of the authority vested in the Secretary of the Interior by section 204 of the Federal Land Policy and Management Act of 1976, 43 U.S.C. 1714, it is ordered as follows:

1. Subject to valid existing rights, E.O. No. 8854 (6 FR 4181 (1941)), as modified by PLO No. 6458 (48 FR 40232 (1983)) and extended by PLO No. 7581 (68 FR 52613 (2003)), which withdrew 117.13 acres of public land from all forms of appropriation under the public land laws, including the mining laws, but not from the mineral leasing laws, for the Sitka Magnetic Observatory site, and reserved it for use by the United States Geological Survey as a magnetic and seismological observatory in Sitka, Alaska, is hereby extended for an additional 20-year period.

2. The withdrawal extended by this Order will expire on September 5, 2043, unless, as a result of a review conducted prior to the expiration date, pursuant to Section 204(f) of the Federal Land Policy and Management Act of 1976, 43 U.S.C. 1714(f), the Secretary determines that the withdrawal shall be further extended.

(Authority: 43 U.S.C. 1714)

Shannon A. Estenoz,
Assistant Secretary for Fish and Wildlife and Parks.

[FR Doc. 2023-12212 Filed 6-7-23; 8:45 am]

BILLING CODE 4331-10-P